DEPARTMENT OF THE INTERIOR

National Park Service

[NPS-WASO-NRNHL-0412-10011; 2200-3200-665]

National Register of Historic Places; Notification of Pending Nominations and Related Actions

Nominations for the following properties being considered for listing or related actions in the National Register were received by the National Park Service before March 31, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by May 7, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Contra Costa County

Martinez Downtown Post Office, (U.S. Post Office in California 1900-1941 TR) 815 Court St., Martinez, 12000265

Mendocino County

Ukiah Main Post Office, 224 N. Oak St., Ukiah, 12000266

CONNECTICUT

Fairfield County

Titicus Hill Historic District, Roughly bounded by jct. of Main St. & Danbury Rd., North St. & N. Salem Rd., New St. & N. Salem Rd., Ridgefield, 12000267

NEW YORK

Columbia County

Bartlett House, 2258 NY 66, Ghent, 12000268

SOUTH DAKOTA

Beadle County

Campbell Park Historic District (Boundary Decrease), Roughly bounded by 5th St. SW., 9th St. SW., Wisconsin Ave. SW., & Oregon Ave. SW., Huron, 12000269

UTAH

Millard County

Fillmore City Cemetery, 325 East 600 South, Fillmore, 12000270

Salt Lake County

Belvedere Apartments, (Salt Lake City MPS) 29 S. State St., Salt Lake City, 12000271

Booth—Parsons House, 1884 S. 900 East, Salt Lake City, 12000272

VIRGINIA

Bristol Independent City

Bristol Warehouse Historic District, Scott & Lee Sts., Bristol (Independent City), 12000273

A request for removal has been made for the following properties:

IOWA

Benton County

Round Barn, Bruce Township Section 6, (Iowa Round Barns: The Sixty Year Experiment TR) W. of U.S. 218, La Porte, 86001416

Boone County

Boone Bridge, (Highway Bridges of Iowa MPS) Old U.S. 30 over Des Moines R., Boone, 98000761

Carroll County

Coon Rapids Bridge, (Highway Bridges of Iowa MPS) Sumpter Ave. over Middle Raccoon R., Coon Rapids, 98000745

Dubuque County

White Water Creek Bridge, (Highway Bridges of Iowa MPS) Whitewater Rd. over White Water Cr., Bernard, 98000787

Guthrie County

Octagon Barn, Richland Township, (Iowa Round Barns: The Sixty Year Experiment TR) Off IA 141, Jamaica, 86001433

Howard County

South Ward School, 500 S. Elm St., Cresco, 82000408

Jones County

Corbett's—Eby's Mill Bridge Spans Maquoketa River (Scotch Grove Township), Scotch Grove, 85000722

Poweshiek County

McDowell Bridge, (Highway Bridges of Iowa MPS) River Rd. over North Skunk R., Montezuma, 98000488

Scott County

Cook, Clarissa C., Library—Blue Ribbon News Building, (Davenport MRA) 528 Brady St., Davenport, 83002415

Lend-A-Hand Club, (Davenport MRA) 105 S. Main St., Davenport, 84001459

Petersen's, J. H. C., Sons Wholesale Building, (Davenport MRA) 122-124 W. River Dr., Davenport, 83002484

Schauder Hotel, (Davenport MRA) 126 W. River Dr., Davenport, 83002495

Schick's Express and Transfer Co., (Davenport MRA) 118-120 W. River Dr., Davenport, 83002497

Riepe Drug Store—G. Ott Block, (Davenport MRA) 403 W. 2nd St., Davenport, 83002493

Young, Col. Joseph, Block, (Davenport MRA) 502 Brady St., Davenport, 83002526

Winneshiek County

Big Stone Mills, (Flour Milling in Iowa MPS) 113 N. Main St., Spillville, 09000516

OREGON

Lane County

Brattain—Hadley House, 1260 Main St., Springfield, 95001099

[FR Doc. 2012-9511 Filed 4-19-12; 8:45 am]

BILLING CODE 4312-51-P